DEPARTMENT OF AGRICULTURE

Forest Service

Tehama County Resource Advisory Committee

AGENCY: Forest Service, USDA.

ACTION: Notice of meeting.

SUMMARY: The Tehama County Resource Advisory Committee (RAC) will hold its second meeting.

DATES: The meeting will be held on March 14, 2002, and will begin at 9:00 a.m. and end at approximately 12:00 p.m.

ADDRESSES: The meeting will be held at the Lincoln Street School, PDC Room, 1135 Lincoln Street, Red Bluff, CA.

FOR FURTHER INFORMATION CONTACT: Bobbin Gaddini, Committee Coordinator, USDA, Mendocino National Forest, Grindstone Ranger District, P.O. Box 164, Elk Creek, CA 95939. (530) 968-5329; e-mail ggaddini@fs.fed.us.

SUPPLEMENTARY INFORMATION: Agenda items to be covered include: (1) Introductions of all committee members, alternate members and Forest Service personnel. (2) Consideration of a Vice-Chair. (3) Project Proposals Mendocino, Shasta-Trinity, Lassen. (4) Member Presentations (5) Individual Presentations (6) Project Applications (7) General Discussion (8) Public Comment. The meeting is open to the public. Public input opportunity will be provided and individuals will have the opportunity to address the Committee at that time.

Dated: February 5, 2002.
James F. Giachino,
Designated Federal Officer.

[FR Doc. 02-3591 Filed 2-13-02; 8:45 am]

BILLING CODE 3410-11-M